GENERAL SERVICES ADMINISTRATION

[Notice-MG-2017-02; Docket No. 2017-0002; Sequence No. 13]

Office of Federal High-Performance Buildings; Green Building Advisory Committee; Notification of Upcoming Conference Calls

AGENCY: Office of Government-wide Policy, General Services Administration (GSA).

ACTION: Meeting notice.

SUMMARY: Notice of this meeting and these conference calls is being provided according to the requirements of the Federal Advisory Committee Act. This notice provides the agenda and schedule for the October 24, 2017 meeting of the Green Building Advisory Committee (the Committee) and schedule for a series of conference calls, supplemented by Web meetings, for two task groups of the Committee. The meeting is open to the public and the site is accessible to individuals with disabilities. The conference calls are open for the public to listen in. Interested individuals must register to attend as instructed below under Supplementary Information.

DATES:

Meeting date: The meeting will be held on Tuesday, October 24, 2017, starting at 9:00 a.m., Eastern Daylight Time (EDT), and ending no later than 4:00 p.m., EDT.

Task group conference call dates: The conference calls will be held according to the following schedule:

The Health and Wellness Task Group will hold recurring, weekly conference calls on Wednesdays beginning August 2, 2017, through October 18, 2017 from 11:00 a.m. to 12:00 p.m., EDT.

The High Performance Building Adoption Task Group will hold recurring, weekly conference calls on Thursdays beginning August 3, 2017 through October 19, 2017 from 3:00 p.m. to 4:00 p.m., EDT.

FOR FURTHER INFORMATION CONTACT: Mr. Ken Sandler, Designated Federal Officer, Office of Federal High-Performance Buildings, Office of Government-wide Policy, General Services Administration, 1800 F Street NW., Washington, DC 20405, telephone 202-219-1121 (Note: This is not a toll-free number). Additional information about the Committee, including meeting materials and updates on the task groups and their schedules, will be available on-line at http://www.gsa.gov/gbac.

SUPPLEMENTARY INFORMATION:

Procedures for Attendance and Public Comment: Contact Mr. Ken Sandler at ken.sandler@gsa.gov to register to attend the meeting and/or listen in to any or all of these conference calls. To attend the meeting and/or conference calls, submit your full name, organization, email address, and phone number, and which you would like to attend. Requests to attend the October 24, 2017 meeting must be received by 5:00 p.m., EDT, on Tuesday, October 17, 2017. Requests to listen in to the conference calls must be received by 5:00 p.m., EDT, on Tuesday, August 1, 2017. (GSA will be unable to provide technical assistance to any listener experiencing technical difficulties. Testing access to the Web meeting site in advance of calls is recommended.)

Contact Ken Sandler at ken.sandler@gsa.gov to register to comment during the October 24, 2017 meeting public comment period. Registered speakers/organizations will be allowed a maximum of five minutes each, and will need to provide written copies of their presentations. Requests to comment at the meeting must be received by 5:00 p.m., EDT, on Tuesday, October 17, 2017. Written comments also may be provided to Mr. Sandler at ken.sandler@gsa.gov by the same deadline.

Background: The Administrator of GSA established the Committee on June 20, 2011 (Federal Register/Vol. 76, No. 118) pursuant to Section 494 of the Energy Independence and Security Act of 2007 (EISA, 42 U.S.C. 17123). Under this authority, the Committee provides independent policy advice and recommendations to GSA to improve federal buildings (assets, operations, use, and resilience) to enhance human health and performance, and safeguard social, economic, and environmental security.

The Committee currently has two active task groups. The High Performance Building Adoption task group is pursuing the motion of a committee member to provide recommendations to “accelerate the adoption of high performance [Federal] buildings.” The Health and Wellness task group is pursuing the motion of a committee member to “develop guidelines to integrate health and wellness features into government facilities programs.”

The conference calls will allow the task groups to coordinate the development of consensus recommendations to the full Committee, which will, in turn, decide whether to proceed with formal advice to GSA based upon these recommendations.

October 24, 2017 Meeting Agenda

• Welcome, Introductions, Updates & Plans for Today

• High Performance Building Adoption: Task Group Report & Discussion

• Working Lunch (with Presentation)

• Health and Wellness: Task Group Report & Discussion

• Topics Proposed by Committee Members Future/Directions of the Committee

• Public Comment Period

• Closing Comments

• Adjourn

Detailed agendas, background information, and updates for the meeting and conference calls will be posted on GSA's Web site at http://www.gsa.gov/gbac.

Meeting Access: The Committee will convene its October 24, 2017 meeting at GSA Central Office, Room 1425, 1800 F Street NW., Washington, DC 20405, and the site is accessible to individuals with disabilities.

Dated: July 13, 2017.
Kevin Kampschroer,
Federal Director, Office of Federal High-Performance Buildings, General Services Administration.

[FR Doc. 2017-15155 Filed 7-18-17; 8:45 am]

BILLING CODE 6820-14-P